ENVIRONMENTAL PROTECTION AGENCY

[FRL-8484-7]

Science Advisory Board Staff Office; Notification of a Public Teleconference of the Science Advisory Board Hypoxia Advisory Panel

AGENCY: Environmental Protection Agency (EPA).

ACTION: Notice.

SUMMARY: The EPA's Science Advisory Board (SAB) Staff Office is announcing a public teleconference of the SAB Hypoxia Advisory Panel to discuss comments from the chartered SAB, external reviewers and the public on its public draft (August 30, 2007) “Hypoxia in the Northern Gulf of Mexico: An Update by the EPA Science Advisory Board.”

DATES: The teleconference will be held on November 16, 2007 from 1-4 p.m. Eastern time.

FOR FURTHER INFORMATION CONTACT: Any member of the public wishing further information regarding the public teleconference may contact Dr. Holly Stallworth, Designated Federal Officer (DFO), U.S. EPA Science Advisory Board Staff Office by telephone/voice mail at (202) 343-9867, or via e-mail at stallworth.holly@epa.gov. The SAB mailing address is: US EPA, Science Advisory Board (1400F), 1200 Pennsylvania Avenue, NW., Washington, DC 20460. General information about the SAB, as well as any updates concerning the teleconference announced in this notice, may be found in the SAB Web Site at: http://www.epa.gov/sab.

SUPPLEMENTARY INFORMATION: Pursuant to the Federal Advisory Committee Act, Public Law 92-463, notice is hereby given that the SAB Hypoxia Advisory Panel will hold a public teleconference to develop a report that details advances in the state of the science regarding hypoxia in the Northern Gulf of Mexico. The SAB was established by 42 U.S.C. 4365 to provide independent scientific and technical advice to the EPA Administrator on the technical basis for Agency positions and regulations. The SAB is a Federal Advisory Committee chartered under the Federal Advisory Committee Act (FACA), as amended, 5 U.S.C., App. The SAB will comply with the provisions of FACA and all appropriate SAB Staff Office procedural policies.

Background: EPA participates with other Federal agencies, states and tribes in the Mississippi River/Gulf of Mexico Watershed Nutrient Task Force. In 2001, the Task Force released the Action Plan for Reducing, Mitigating and Controlling Hypoxia in the Northern Gulf of Mexico (or Action Plan available at: http://www.epa.gov/msbasin/taskforce/actionplan.htm). The Action Plan was informed by the science described in 2000 in An Integrated Assessment of Hypoxia in the Northern Gulf of Mexico (or Integrated Assessment available at http://www.noaa.gov/products/hypox_finalfront.pdf) developed by the National Science and Technology Council, Committee on Environment and Natural Resources. Six technical reports provided the scientific foundation for the Integrated Assessment and are available at: http://www.nos.noaa.gov/products/pub_hypox.html. Given the passage of 6 years, EPA's Office of Water has requested that the SAB develop a report that evaluates the updated science regarding the causes and extent of hypoxia in the Gulf of Mexico, as well as the scientific basis of possible management options in the Mississippi River Basin.

In response to EPA's request, the SAB Staff Office formed the SAB Hypoxia Advisory Panel. Background on the Panel formation process was provided in a Federal Register notice published on February 17, 2006 (71 FR 8578-8580). The SAB Hypoxia Advisory Panel met in face-to-face meetings on September 6-7, 2006 (71 FR 45543-45544), again on December 6-8, 2006 (71 FR 66329-66330), again on February 28-March 2, 2007 (72 FR 5968-5969) and again on June 13-15, 2007 (72 FR 17158-17159). Teleconferences of the full Hypoxia Advisory Panel and its three subgroups have also been published in Federal Register Notices (71 FR 55786-55787, 71 FR 59107, 71 FR 77743-77744, 72 FR 11359-11360 and 72 FR 35465). The Hypoxia Advisory Panel issued a draft report on August 30, 2007, posted at: http://www.epa.gov/sab/pdf/8-30-07_hap_draft.pdf. This report was discussed at the chartered SAB meeting on October 3, 2007.

The purpose of the November 16, 2007 teleconference is to discuss comments received from the chartered SAB, external reviewers and the public.

Availability of Teleconference Materials: Materials in support of this teleconference will be placed on the SAB Web Site at: http://www.epa.gov/sab/ in advance of the teleconference.

Procedures for Providing Public Input:

Written Statements: The SAB Staff Office is accepting written comments on the August 30, 2007 draft hypoxia report, posted at: http://www.epa.gov/sab/pdf/8-30-07_hap_draft.pdf, until November 2, 2007. Written statements should be supplied to the DFO in the following formats: one hard copy with original signature, and one electronic copy via e-mail to stallworth.holly@epa.gov (acceptable file format: Adobe Acrobat PDF, WordPerfect, MS Word, MS PowerPoint, or Rich Text files in IBM-PC/Windows 98/2000/XP format).

Oral Statements: In general, individuals or groups requesting an oral presentation at a public teleconference will be limited to five minutes per speaker, with no more than a total of one hour for all speakers. Interested parties should contact Dr. Stallworth, DFO, at the contact information noted above, no later than November 12, 2007, to be placed on the public speaker list for the November 16, 2007 teleconference.

Teleconference Access: For information on access or services for individuals with disabilities, please contact Dr. Stallworth at (202) 343-9867 or stallworth.holly@epa.gov. To request accommodation of a disability, please contact Dr. Stallworth, preferably at least 10 days prior to the teleconference to give EPA as much time as possible to process your request.

Dated: October 11, 2007.
Anthony F. Maciorowski,
Deputy Director, EPA Science Advisory Board Staff Office.

[FR Doc. E7-20671 Filed 10-18-07; 8:45 am]

BILLING CODE 6560-50-P